INTERNATIONAL TRADE COMMISSION

[Inv. No. 337-TA-496]

In the Matter of Certain Home Vacuum Packaging Products Notice of a Commission Determination Not To Review an Initial Determination Terminating the Investigation as to Two Respondents on the Basis of a Settlement Agreement and Withdrawal of the Complaint as to a Third Respondent; Termination of the Investigation

AGENCY: U.S. International Trade Commission.

ACTION: Notice.

SUMMARY: Notice is hereby given that the U.S. International Trade Commission has determined not to review the presiding administrative law judge's (“ALJ's”) initial determination (“ID”) granting a joint motion to terminate the above-captioned investigation on the basis of a settlement agreement and withdrawal of the complaint.

FOR FURTHER INFORMATION CONTACT: Timothy P. Monaghan, Esq., Office of the General Counsel, U.S. International Trade Commission, 500 E Street, SW., Washington, DC 20436, telephone 202-205-3152. Copies of the public version of the ID and all nonconfidential documents filed in connection with this investigation are or will be available for inspection during official business hours (8:45 a.m. to 5:15 p.m.) in the Office of the Secretary, U.S. International Trade Commission, 500 E Street, SW., Washington, DC 20436, telephone 202-205-2000. Hearing-impaired persons are advised that information on this matter can be obtained by contacting the Commission's TDD terminal on 202-205-1810. General information concerning the Commission may also be obtained by accessing its Internet server (http://www.usitc.gov). The public record for this investigation may be viewed on the Commission's electronic docket (EDIS) at http://edis.usitc.gov.

SUPPLEMENTARY INFORMATION: On August 18, 2003, the Commission instituted this investigation based upon a complaint filed by Tilia, Inc. and Tilia International (collectively, “Tilia”). 68 FR 49521. In its complaint, Tilia alleges that the accused imported products infringe claims 3, 4, 6, 24-25, and 34 of U.S. Patent No. 4,941,310. The notice of investigation named Applica, Inc., and Applica Consumer Products, Inc. (“Applica”); ZeroPack Co., Ltd., (“ZeroPack”); and The Holmes Group, Inc. and The Rival Company (collectively “the Rival respondents”) as respondents.

On March 29, 2004, the Commission issued notice that it had determined not to review an ID granting the joint motion of Tilia and the Rival respondents to terminate the investigation as to the Rival respondents on the basis of a settlement agreement.

On April 22, 2004, the ALJ issued an ID (Order No. 59) granting the joint motion of complainant Tilia and respondents Applica and ZeroPack to terminate the investigation based on a settlement agreement between Tilia and Applica, and to terminate the investigation as to ZeroPack by withdrawal of the complaint, contingent on the termination of the Applica. The Commission investigative attorney supported the joint motion.

No party filed a petition to review the subject ID.

The authority for the Commission's action is contained in section 337 of the Tariff Act of 1930, as amended (19 U.S.C. 1337) and in section 210.42 of the Commission's Rules of Practice and Procedure (19 CFR 210.42).

Issued: May 20, 2004.
By order of the Commission.
Marilyn R. Abbott,
Secretary to the Commission.

[FR Doc. 04-11864 Filed 5-25-04; 8:45 am]

BILLING CODE 7020-02-P